INTERNATIONAL TRADE COMMISSION

U. S.-Singapore Free Trade Agreement: Potential Trade and Economic Effects (Inv. No. 332-422)

AGENCY: United States International Trade Commission.

ACTION: Institution of investigation and notice of opportunity to submit comments

EFFECTIVE DATE: December 6, 2000.

SUMMARY: Following receipt of a request on November 27, 2000, from the United States Trade Representative (USTR), pursuant to authority under section 332(g) of the Tariff Act of 1930, the Commission instituted investigation No. 332-422, U.S.-Singapore Free Trade Agreement: Potential Trade and Economic Effects.

FOR FURTHER INFORMATION CONTACT: Arona Butcher (202-205-3255), Office of Economics; or William Gearhart of the Office of the General Counsel (202-205-3091) for information on the legal aspects of this investigation. Hearing impaired individuals are advised that information on this matter can be obtained by contacting the TDD terminal on (202) 205-1810.

Background:

The USTR requested that the Commission conduct an investigation and provide advice as to the economic impact of a U.S.-Singapore FTA. As requested by USTR, the Commission's report on the investigation will include the following:

• A concise description of the Singapore economy, patterns of trade with the United States and other major trade partners, and the tariff and investment relationship between the United States and Singapore.

• A quantitative analysis of the likely trade and economic impact of a United States-Singapore FTA by sector.

• A supplementary qualitative analysis of the impact of the U.S.-Singapore FTA on product sectors to be identified by USTR.

• A discussion of potential trade and economic effects of the elimination of barriers to trade in services under the United States-Singapore FTA.

• A discussion of potential trade and economic effects of changes in intellectual property rights regimes under the United States-Singapore FTA.

• A discussion of potential trade and economic effects of changes in rules concerning foreign direct investment under the United States-Singapore FTA.

The Commission plans to submit its report, U.S.-Singapore Free Trade Agreement: Potential Trade and Economic Effects on January 12, 2001. USTR indicated that portions of the report will be classified as confidential.

Written Submissions

The Commission does not plan to hold a public hearing in connection with this investigation. However, interested persons are invited to submit written statements concerning matters to be addressed in the report. Commercial or financial information that a person desires the Commission to treat as confidential must be submitted on separate sheets of paper, each clearly marked “Confidential Business Information” at the top. The Commission's Rules do not authorize filing of submissions with the Secretary by facsimile or electronic means. All written submissions must conform with the provisions of section 201.8 of the Commission's Rules of Practice and Procedure (19 CFR 201.8). All submissions requesting confidential treatment must conform with the requirements of § 201.6 of the Commission's Rules (19 CFR 201.6). All written statements, except for confidential business information will be made available for inspection by interested persons in the Office of the Secretary to the Commission. To be assured of consideration, written statements relating to the Commission's report should be submitted at the earliest possible date and should be received not later than December 20, 2000. All submissions should be addressed to the Secretary, United States International Trade Commission, 500 E Street, SW, Washington DC 20436. The Commission's rules do not authorize filing of submissions with the Secretary by facsimile or electronic means.

Persons with mobility impairments who will need special assistance in gaining access to the Commission should contact the Office of the Secretary at 202-205-2000. General information concerning the Commission may also be obtained by accessing its Internet server (http://www.usitc.gov).

Issued: December 7, 2000.
Donna R. Koehnke,
Secretary.

[FR Doc. 00-31712 Filed 12-11-00; 8:45 am]

BILLING CODE 7000-02-P